DEPARTMENT OF AGRICULTURE

Animal and Plant Health Inspection Service

7 CFR Part 301

[Docket No. APHIS-2006-0151]

Oriental Fruit Fly; Addition and Removal of Quarantined Areas in California

Correction

In rule document E7-801 beginning on page 2597 in the issue of Monday, January 22, 2007 make the following correction:

On page 2597, in the first column, under the DATES heading, in the second line “January 22, 2006 ” should read “January 22, 2007 ”.

[FR Doc. Z7-801 Filed 1-25-07; 8:45 am]

BILLING CODE 1505-01-D

DEPARTMENT OF THE TREASURY

Internal Revenue Service

26 CFR Parts 1, 301 and 602

[TD 9300]

Guidance Necessary to Facilitate Business Electronic Filing

Correction

In rule document E6-20734 beginning on page 71040 in the issue of Friday December 8, 2006, make the following correction:

On page 71045, in the third column, in the document signature, in the second and third lines, “Deputy Commissioner for Services and Enforcement” should read “Acting Deputy Commissioner for Services and Enforcement”.

[FR Doc. Z6-20734 Filed 1-25-07; 8:45 am]

BILLING CODE 1505-01-D

ENVIRONMENTAL PROTECTION AGENCY

40 CFR Part 141

[Docket No. OW-2004-0001; FRL-8261-7]

RIN 2040-AD93

Unregulated Contaminant Monitoring Regulation (UCMR) for Public Water Systems Revisions

Correction

In rule document E6-22123 beginning on page 368 in the issue of Thursday, January 4, 2007 make the following corrections:

§ 141.40 [Corrected]

1. On page 394, in § 141.40(a)(3), in Table 1, under the heading “Nitrosamines”, the table is corrected starting with the sixth row to read as follows:

Table 1.—UCMR Contaminant List
[List 2: Screening Survey Chemical Contaminants]
1—Contaminant | 2—CAS registry number | 3—Analytical methods ᵃ | 4—Minimum reporting level ᵇ | 5—Sampling location ᶜ | 6—Period during which monitoring to be completed
* * * * *
Nitrosamines
* * * * *
N-nitrosopyrrolidine (NPYR) | 930-55-2 | EPA 521 ʰ | 0.002 μg/L | DSMRT and EPTDS | 1/1/2008-12/31/2010

[List 3: Pre-Screen Testing to be Sampled After Notice of Analytical Methods Availability]
1—Contaminant | 2—CAS registry number | 3—Analytical methods ᵃ | 4—Minimum reporting level ᵇ | 5—Sampling location ᶜ | 6—Period during which monitoring to be completed
Reserved ⁱ | Reserved ⁱ | Reserved ⁱ | Reserved ⁱ | Reserved ⁱ | Reserved ⁱ
* * * * *

[FR Doc. Z6-22123 Filed 1-25-07; 8:45 am]

BILLING CODE 6560-50-P